DEPARTMENT OF DEFENSE

Department of the Navy

Notice of Intent To Prepare an Environmental Impact Statement/Overseas Environmental Impact Statement for Military Readiness Activities in the Mariana Islands Training and Testing Study Area and To Announce Public Scoping Meetings; Correction

AGENCY: Department of Navy, DoD.

ACTION: Notice; correction.

SUMMARY: The Department of the Navy published a document in the Federal Register (76 FR 174) on September 8, 2011, concerning public scoping meetings to support the development of an Environmental Impact Statement/Overseas Environmental Impact Statement for the Mariana Islands Training and Testing Study Area. The document contained an incorrect scoping date.

FOR FURTHER INFORMATION CONTACT: Ms. Nora Macariola—See, Naval Facilities Engineering Command, Pacific. Attention: MITT EIS/OEIS, 258 Makalapa Drive, Suite 100, Building 258, Floor 3, Pearl Harbor, Hawaii 96860-3134.

Correction: In the Federal Register (76 FR 174) of September 8, 2011, on page 55654, in the first column, correct the last public scoping date to read:

5. Thursday, September 29, 2011, at the Sinapalo Elementary School Cafeteria, Sinapalo I, Songsong Village, Rota, MP 96951.

Dated: September 9, 2011.
L.M. Senay,
Lieutenant, Judge Advocate General's Corps, U.S. Navy, Alternate Federal Register Liaison Officer.

[FR Doc. 2011-23755 Filed 9-15-11; 8:45 am]

BILLING CODE 3810-FF-P